DEPARTMENT OF ENERGY

Federal Energy Regulatory Commission

[Docket No. RP96-272-053]

Northern Natural Gas Company; Notice of Proposed Changes in Gas Tariff

October 6, 2004.

Take notice that Northern Natural Gas Company (Northern) on September 30, 2004 tendered for filing to become part of Northern's Gas Tariff, the following tariff sheets proposed to be effective on October 1, 2004:

Fifth Revised Volume No. 1

34 Revised Sheet No. 66

Northern states that the above sheets are being filed to implement a specific negotiated rate transaction with Iowa Falls Ethanol Plant LLC in accordance with the Commission's Policy Statement on Alternatives to Traditional Cost-of-Service Ratemaking for Natural Gas Pipelines.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, D.C. There is an “eSubscription” link on the web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-2633 Filed 10-14-04; 8:45 am]

BILLING CODE 6717-01-P